DEPARTMENT OF TRANSPORTATION

Federal Aviation Administration

14 CFR Part 39

[Docket No. FAA-2015-6547; Directorate Identifier 2014-NM-129-AD; Amendment 39-18490; AD 2016-08-14]

RIN 2120-AA64

Airworthiness Directives; Airbus Airplanes

AGENCY: Federal Aviation Administration (FAA), Department of Transportation (DOT).

ACTION: Final rule.

SUMMARY: We are superseding Airworthiness Directive (AD) 2014-03-14 for all Airbus Model A330-200 and -300 series airplanes, and Model A340-200, -300, -500, and -600 series airplanes. AD 2014-03-14 required removing bulb-type maintenance lights; installing a drain mast on certain airplanes; and installing muffs on connecting bleed elements on certain airplanes. For certain Model A340-200 and -300 series airplanes, this new AD also requires replacing certain insulation sleeves with new insulation sleeves. This AD results from fuel system reviews conducted by the airplane manufacturer. We are issuing this AD to prevent ignition sources inside fuel tanks, which, in combination with flammable fuel vapors, could result in fuel tank explosions and consequent loss of the airplane.

DATES: This AD is effective May 31, 2016.

The Director of the Federal Register approved the incorporation by reference of certain publications listed in this AD as of May 31, 2016.

The Director of the Federal Register approved the incorporation by reference of certain other publications listed in this AD as of March 26, 2014 (79 FR 9382, February 19, 2014).

ADDRESSES: For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-6547.

Examining the AD Docket

You may examine the AD docket on the Internet at http://www.regulations.gov by searching for and locating Docket No. FAA-2015-6547; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2014-03-14, Amendment 39-17752 (79 FR 9382, February 19, 2014) (“AD 2014-03-14”). AD 2014-03-14 applied to all Airbus Model A330-200 and -300 series airplanes, and Model A340-200, -300, -500, and -600 series airplanes. The NPRM published in the Federal Register on December 11, 2015 (80 FR 76875) (“the NPRM”). The NPRM was prompted by fuel system reviews conducted by the airplane manufacturer. The NPRM proposed to continue to require removing bulb-type maintenance lights; installing a drain mast on certain airplanes; and installing muffs on connecting bleed elements on certain airplanes. The NPRM also proposed to require, for certain Model A340-200 and -300 series airplanes, replacing certain insulation sleeves with new insulation sleeves. We are issuing this AD to prevent ignition sources inside fuel tanks, which, in combination with flammable fuel vapors, could result in fuel tank explosions and consequent loss of the airplane.

The European Aviation Safety Agency (EASA), which is the Technical Agent for the Member States of the European Union, has issued EASA Airworthiness Directive 2014-0148, dated June 13, 2014 (referred to after this the Mandatory Continuing Airworthiness Information, or “the MCAI”), to correct an unsafe condition for all Airbus Model A330-200 and -300 series airplanes, and Model A340-200, -300, -500, and -600 series airplanes. The MCAI states:

[Subsequent to accidents involving Fuel Tank Systems in flight and on ground] * * *, the FAA published Special Federal Aviation Regulation (SFAR) 88 [(66 FR 23086, May 7, 2001)], and the Joint Aviation Authorities (JAA) published Interim Policy INT/POL/25/12.

In response to these regulations, a global design review conducted by Airbus on the A330 and A340 type design Section 19, which is a flammable fluid leakage zone and a zone adjacent to a fuel tank, highlighted potential deviations. The specific identified cases were that in-flight fuel drainage is insufficient on A340-500/-600 aeroplanes, maintenance lights are not qualified explosion-proof, and hot surfaces may exist on bleed systems during normal/failure operations.

This condition, if not corrected, in combination with a fuel leak generating flammable vapours in the area, could result in a fuel tank explosion and consequent loss of the aeroplane.

To address this unsafe condition, Airbus developed various modifications of the aeroplane, to be embodied in service.

Consequently, EASA issued AD 2013-0033 [http://ad.easa.europa.eu/blob/easa_ad_2013-0033_superseded.pdf/AD_2013-0033_1, which corresponds to FAA AD 2014-03-14, Amendment 39-17752 (79 FR 9382, February 19, 2014)] to require removal of bulb type maintenance lights for all aeroplanes, installation of a drain mast between Frame (FR) 80 and FR83 for A340-500/-600 aeroplanes, and installation of muffs on connecting bleed elements to minimize hot surfaces on A330 and A340-200/-300 aeroplanes.

Since that [EASA] AD was issued, it was reported that, for A340-200/-300 aeroplanes, accomplishment instructions in the applicable Airbus Service Bulletins (SB) for aeroplanes in Configurations 002 and 005 were detailed in Configuration 003 and, conversely, accomplishment instructions for aeroplane[s] in Configuration 003 were detailed in Configurations 002 and 005. This can lead to incorrect installation of some insulation sleeves on the Auxiliary Power Unit (APU) Air Bleed Ducts between Frame 83 and 84 for configurations 002, 003 and 005 as per Airbus SB A340-36-4035 at original issue. Prompted by this finding, Airbus revised the affected SB with additional work required for aeroplanes included in configurations 002, 003 and 005 that were modified using the original issue of the SB.

For the reasons described above, this [EASA] AD retains the requirements of EASA AD 2013-0033, which is superseded, incorporates reference to the corrected Airbus SB A340-36-4035 Revision 01 and requires the additional work as specified in Airbus SB A340-36-4035 Revision 01 for aeroplanes already modified per the original SB A340-36-4035.

The additional work is replacing the insulation sleeves between FR83 and FR84 with new insulation sleeves. You may examine the MCAI in the AD docket on the Internet at http://www.regulations.gov by searching for and locating Docket No. FAA-2015-6547.

Comments

We gave the public the opportunity to participate in developing this AD. We received no comments on the NPRM or on the determination of the cost to the public.

Change Made To This Final Rule: Updated Service Information

Airbus has issued Service Bulletin A330-36-3038, Revision 01, dated May 11, 2015. The additional work specified in this service information is minimal and consists of modifying the routing of a harness. This additional work is not required for airplanes on which the actions previously required by paragraph (h) of AD 2014-03-14 have been done before the effective date of this AD. Paragraph (h) of this AD retains the requirements of paragraph (h) of AD 2014-03-14. We have revised paragraph (h)(1) of this AD to specify Airbus Service Bulletin A330-36-3038, Revision 01, dated May 11, 2015, as an appropriate source of service information.

Conclusion

We reviewed the available data and determined that air safety and the public interest require adopting this AD with the change described previously and minor editorial changes. We have determined that these changes:

• Are consistent with the intent that was proposed in the NPRM for correcting the unsafe condition; and

• Do not add any additional burden upon the public than was already proposed in the NPRM.

Related Service Information Under 1 CFR Part 51

Airbus has issued the following service bulletins.

• Airbus Service Bulletin A330-33-3041, Revision 02, dated November 7, 2013, which describes procedures for removing bulb-type maintenance lights.

• Airbus Service Bulletin A330-36-3037, Revision 02, including Appendix 01, dated April 7, 2014, which describes procedures for modifying the bleed leak detection loop of the auxiliary power unit (APU).

• Airbus Service Bulletin A330-36-3038, Revision 01, dated May 11, 2015, which describes procedures for bleed leak detection loop modification of the APU.

• Airbus Service Bulletin A340-33-4026, Revision 02, dated November 7, 2013, which describes procedures for removing bulb-type maintenance lights.

• Airbus Service Bulletin A340-36-4033, Revision 02, including Appendix 01, dated May 19, 2014, which describes procedures for bleed leak detection loop modification of the APU.

• Airbus Service Bulletin A340-36-4035, including Appendix 01, dated September 18, 2012, which describes procedures for installing muffs on connecting bleed elements on certain airplanes.

This service information is reasonably available because the interested parties have access to it through their normal course of business or by the means identified in the ADDRESSES section.

Costs of Compliance

We estimate that this AD affects 43 Model A330 series airplanes of U.S. registry. There are no Model A340 airplanes registered in the U.S.

The actions required by AD 2014-03-14, and retained in this AD take about 21 work-hours per product, at an average labor rate of $85 per work-hour. Required parts cost about $5,219 per product. Based on these figures, the estimated cost of the actions that were required by AD 2014-03-14 is $7,004 per product.

We also estimate that it will take about 6 work-hours per product to comply with the basic requirements of this AD. The average labor rate is $85 per work-hour. Required parts will cost about $279 per product. Based on these figures, we estimate the cost of this AD on U.S. operators to be $33,927, or $789 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-03-14, Amendment 39-17752 (79 FR 9382, February 19, 2014), and adding the following new AD:

2016-08-14 Airbus: Amendment 39-18490. Docket No. FAA-2015-6547; Directorate Identifier 2014-NM-129-AD.

(a) Effective Date

This AD is effective May 31, 2016.

(b) Affected ADs

This AD replaces AD 2014-03-14, Amendment 39-17752 (79 FR 9382, February 19, 2014) (“AD 2014-03-14”).

(c) Applicability

This AD applies to the Airbus airplanes, certificated in any category, specified in paragraphs (c)(1) and (c)(2) of this AD, all manufacturer serial numbers.

(1) Airbus Model A330-201, -202, -203, -223, -243, -301, -302, -303, -321, -322, -323, -341, -342, and -343 airplanes.

(2) Airbus Model A340-211, -212, -213, -311, -312, -313, -541, and -642 airplanes.

(d) Subject

Air Transport Association (ATA) of America Code 26, Fire protection; 33, Lights; 36, Pneumatic; 53, Fuselage.

(e) Reason

This AD results from fuel system reviews conducted by the airplane manufacturer. We are issuing this AD to prevent ignition sources inside fuel tanks, which, in combination with flammable fuel vapors, could result in fuel tank explosions and consequent loss of the airplane.

(f) Compliance

Comply with this AD within the compliance times specified, unless already done.

(g) Retained Maintenance Light Removal, With New Service Information

This paragraph restates the requirements of paragraph (g) of AD 2014-03-14, with new service information. Except for airplanes on which Airbus Modification 56739 has been incorporated in production: Within 26 months after March 26, 2014 (the effective date of AD 2014-03-14), remove the maintenance lights, in accordance with the Accomplishment Instructions of the applicable Airbus service information specified in paragraphs (g)(1), (g)(2), and (g)(3) of this AD.

(1) Airbus Mandatory Service Bulletin A330-33-3041, Revision 01, dated July 10, 2012; or Airbus Service Bulletin A330-33-3041, Revision 02, dated November 7, 2013 (for Model A330 series airplanes). As of the effective date of this AD, use only Airbus Service Bulletin A330-33-3041, Revision 02, dated November 7, 2013, for the actions required by paragraph (g) of this AD.

(2) Airbus Mandatory Service Bulletin A340-33-4026, Revision 01, dated July 10, 2012; or Airbus Service Bulletin A340-33-4026, Revision 02, dated November 7, 2013 (for Model A340-200 and -300 series airplanes). As of the effective date of this AD, use only Airbus Service Bulletin A340-33-4026, Revision 02, dated November 7, 2013, for the actions required by paragraph (g) of this AD.

(3) Airbus Mandatory Service Bulletin A340-33-5006, dated January 3, 2012 (for Model A340-500 and -600 series airplanes).

Note 1 to paragraph (g) of this AD: For Model A340-500 and -600 series airplanes, Airbus has issued Airbus Service Bulletin A340-33-5007 to introduce halogen-type lights, which are qualified as explosion-proof, and that can be installed (at operators' discretion) after removal of the non-explosion-proof lights required by paragraph (g) of this AD. For Model A330 series airplanes and Model A340-200 and -300 series airplanes, Airbus has issued Airbus Service Bulletins A330-33-3042 and A340-33-4027 for the installation of similar lights.

(h) Retained Insulation Muff Installation, With New Service Information

This paragraph restates the requirements of paragraph (h) of AD 2014-03-14, with new service information. For Model A330-200 and -300 series airplanes, and Model A340-200 and -300 series airplanes, except those airplanes on which Airbus Modification 52260 has been incorporated in production: Within 26 months after March 26, 2014 (the effective date of AD 2014-03-14), install insulation muffs on the connecting auxiliary power unit (APU) bleed air duct, in accordance with the Accomplishment Instructions of the applicable Airbus service information specified in paragraphs (h)(1), (h)(2), and (h)(3) of this AD.

(1) Airbus Service Bulletin A330-36-3038, dated January 16, 2012; or Airbus Service Bulletin A330-36-3038, Revision 01, dated May 11, 2015; for Model A330 series airplanes on which Airbus Service Bulletin A330-36-3032 has been incorporated. As of the effective date of this AD, use only Airbus Service Bulletin A330-36-3038, Revision 01, dated May 11, 2015.

(2) Airbus Mandatory Service Bulletin A330-36-3040, Revision 01, dated November 26, 2012, for Model A330 series airplanes on which Airbus Service Bulletin A330-36-3032 has not been incorporated.

(3) Airbus Mandatory Service Bulletin A340-36-4035, Revision 01, dated September 24, 2013, for Model A340 series airplanes.

(i) Retained Alternative Action to Paragraph (h) of This AD, With New Service Information

This paragraph restates the alternative action specified in paragraph (i) of AD 2014-03-14, with new service information. For Model A330 series airplanes on which the modification specified in Airbus Service Bulletin A330-36-3032 has not been incorporated, and for Model A340 series airplanes: Doing the bleed leak detection loop modification of the APU, in accordance with the Accomplishment Instructions of the applicable Airbus service information specified in paragraphs (i)(1) and (i)(2) of this AD, is an acceptable alternative to the actions required by paragraph (h) of this AD, provided the modification is accomplished within 26 months after March 26, 2014 (the effective date of AD 2014-03-14).

(1) Airbus Service Bulletin A330-36-3037, Revision 02, including Appendix 01, dated April 7, 2014.

(2) Airbus Service Bulletin A340-36-4033, Revision 02, including Appendix 01, dated May 19, 2014.

(j) Retained Drain Mast Installation, With No Changes

This paragraph restates the requirements of paragraph (j) of AD 2014-03-14, with no changes. For Model A340-500 and -600 series airplanes, except those on which Airbus Modification 54636 or 54637 has been incorporated in production: Within 26 months after March 26, 2014 (the effective date of AD 2014-03-14), install a drain mast between frame (FR) 80 and FR83, in accordance with the Accomplishment Instructions of Airbus Mandatory Service Bulletin A340-53-5031, Revision 02, dated August 3, 2011.

(k) New Requirement of This AD: Replacement of Certain Insulation Sleeves

For Model A340 series airplanes in configurations 002, 003, and 005, as described in Airbus Service Bulletin A340-36-4035, including Appendix 01, dated September 18, 2012, that have been modified before the effective date of this AD as specified in Airbus Service Bulletin A340-36-4035, including Appendix 01, dated September 18, 2012: Within 14 months after the effective date of this AD, replace the insulation sleeves between FR83 and FR84 with new insulation sleeves, in accordance with the Accomplishment Instructions of Airbus Service Bulletin A340-36-4035, Revision 01, dated September 24, 2013.

(l) Credit for Previous Actions

(1) This paragraph provides credit for actions required by paragraph (g) of this AD, if those actions were performed before March 26, 2014 (the effective date of AD 2014-03-14), using Airbus Service Bulletin A330-33-3041, dated January 3, 2012; or Airbus Service Bulletin A340-33-4026, dated January 3, 2012; as applicable. This service information is not incorporated by reference in this AD.

(2) This paragraph provides credit for actions required by paragraph (h) of this AD, if those actions were performed before March 26, 2014 (the effective date of AD 2014-03-14), using Airbus Service Bulletin A330-36-3040, dated September 18, 2012. This service information is not incorporated by reference in this AD.

(3) For Model A340 series airplanes in configurations 001 and 004, as described in Airbus Service Bulletin A340-36-4035, including Appendix 01, dated September 18, 2012: This paragraph provides credit for actions required by paragraph (h) of this AD, if those actions were performed before the effective date of this AD using Airbus Service Bulletin A340-36-4035, including Appendix 01, dated September 18, 2012.

(4) This paragraph provides credit for actions required by paragraph (j) of this AD, if those actions were performed before March 26, 2014 (the effective date of AD 2014-03-14), using Airbus Service Bulletin A340-53-5031, dated July 31, 2006; or Airbus Service Bulletin A340-53-5031, Revision 01, dated January 10, 2008; as applicable. This service information is not incorporated by reference in this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for paragraphs (g) and (h) of AD 2014-03-14 are approved as AMOCs for the corresponding provisions of paragraphs (g) and (h) of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA Airworthiness Directive 2014-0148, dated June 13, 2014, for related information. This MCAI may be found in the AD docket on the Internet at http://www.regulations.gov by searching for and locating Docket No. FAA-2015-6547.

(2) Service information identified in this AD that is not incorporated by reference is available at the addresses specified in paragraphs (o)(5) and (o)(6) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 31, 2016.

(i) Airbus Service Bulletin A330-33-3041, Revision 02, dated November 7, 2013.

(ii) Airbus Service Bulletin A330-36-3037, Revision 02, including Appendix 01, dated April 7, 2014.

(iii) Airbus Service Bulletin A330-36-3038, Revision 01, dated May 11, 2015.

(iv) Airbus Service Bulletin A340-33-4026, Revision 02, dated November 7, 2013.

(v) Airbus Service Bulletin A340-36-4033, Revision 02, including Appendix 01, dated May 19, 2014.

(vi) Airbus Service Bulletin A340-36-4035, including Appendix 01, dated September 18, 2012.

(4) The following service information was approved for IBR on March 26, 2014 79 FR 9382, February 19, 2014).

(i) Airbus Mandatory Service Bulletin A330-33-3041, Revision 01, dated July 10, 2012.

(ii) Airbus Mandatory Service Bulletin A330-36-3040, Revision 01, dated November 26, 2012.

(iii) Airbus Mandatory Service Bulletin A340-33-4026, Revision 01, dated July 10, 2012.

(iv) Airbus Mandatory Service Bulletin A340-33-5006, dated January 3, 2012.

(v) Airbus Mandatory Service Bulletin A340-36-4035, Revision 01, dated September 24, 2013.

(vi) Airbus Mandatory Service Bulletin A340-53-5031, Revision 02, dated August 3, 2011.

(5) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on April 8, 2016.
Michael Kaszycki,
Acting Manager, Transport Airplane Directorate, Aircraft Certification Service.

[FR Doc. 2016-08951 Filed 4-25-16; 8:45 am]

BILLING CODE 4910-13-P